DEPARTMENT OF THE INTERIOR

Fish and Wildlife Service

[FWS-R4-ES-2011-N130; 40120-1113-0000-C2]

Recovery Plan for the Endangered Pyne's Ground-plum (Astragalus bibullatus)

AGENCY: Fish and Wildlife Service, Interior.

ACTION: Notice of document availability.

SUMMARY: We, the Fish and Wildlife Service, announce the availability of the final recovery plan for Pyne's ground-plum (Astragalus bibullatus), a species endemic to the Central Basin in Tennessee. The recovery plan includes specific recovery objectives and criteria to be met in order to reclassify this species to threatened status and delist it under the Endangered Species Act of 1973, as amended (Act).

ADDRESSES: You may obtain a copy of the recovery plan by contacting the Tennessee Field Office, U.S. Fish and Wildlife Service, 446 Neal Street, Cookeville, TN 38501 (telephone 931-528-6481), or by visiting our recovery plan Web site at http://www.fws.gov/endangered/species/recovery-plans.html.

FOR FURTHER INFORMATION CONTACT: Mr. Geoff Call at the above address, or telephone: (931) 528-6481, ext. 213.

SUPPLEMENTARY INFORMATION:

Background

We listed Pyne's ground-plum as an endangered species under the Act (16 U.S.C. 1531 et seq.), on September 26, 1991 (56 FR 48748). This species is a rare perennial member of the pea family (Fabaceae) endemic to the limestone cedar glades in the Central Basin Section of the Interior Low Plateau (Tennessee). It is currently known from only eight extant occurrences (specific locations or sites) located within 90 square miles in Rutherford County, Tennessee, within a short distance of the rapidly growing city of Murfreesboro.

Factors contributing to its endangered status are an extremely limited range and loss of habitat. The primary threat is the loss of habitat from residential, commercial, or industrial development; livestock grazing; woody encroachment; and recreational uses such as all-terrain vehicles.

The Act requires the development of recovery plans for listed species, unless such a plan would not promote the conservation of a particular species. Section 4(f) of the Act requires us to provide a public notice and an opportunity for public review and comment during recovery plan development. We made the draft recovery plan available for public comment from April 1 through June 1, 2010 (75 FR 16499). We considered information we received during this public comment period and information from peer reviewers in our preparation of this final recovery plan. We will forward comments to other Federal agencies so each agency can consider these comments in implementing approved recovery plans.

Restoring an endangered or threatened animal or plant to the point where it is again a secure, self-sustaining member of its ecosystem is a primary goal of the endangered species program. To help guide the recovery effort, we are preparing recovery plans for most listed species. Recovery plans describe actions considered necessary for conservation of the species, establish criteria for downlisting or delisting, and estimate time and cost for implementing recovery measures.

The objective of this plan is to provide a framework for the recovery of this species so that protection under the Act is no longer necessary. Astragalus bibullatus will be considered for reclassification to threatened status when there are 11 viable protected occurrences distributed throughout the cedar glade ecosystem of the Stones River Basin which is located within Davidson, Rutherford, and Wilson Counties. Viability of each occurrence should be determined using a population viability analysis framework. Populations considered viable for recovery purposes should exhibit either stable or increasing population growth trends and have been shown through at least 10 consecutive monitoring events to possess suitable population structure for maintaining observed population growth into the foreseeable future. In order for an A. bibullatus occurrence to be considered protected, it should be located:

• On lands owned and managed by a public agency, with a written plan committing to conserve A. bibullatus and the cedar glade ecosystem on that site; the plan must include necessary resources, management recommendations, etc. for the site; or

• On private lands protected by a permanent conservation easement, State Natural Area registry, or other legally binding agreement, with a written plan committing to conserve A. bibullatus and the cedar glade ecosystem on that site; the plan must include necessary resources, management recommendations, etc. for the site.

Astragalus bibullatus will be considered for delisting when there are 16 viable protected occurrences that are distributed throughout the cedar glade ecosystem of the Stones River Basin within Davidson, Rutherford, and Wilson Counties.

The reclassification and recovery criteria were made more protective in the final recovery plan than they were in the draft recovery plan for this plant based on: (1) Comments from peer reviewers that the plan should provide additional redundancy on the landscape to help protect this plant against threats like drought, (2) new scientific information showing that this plant exhibits density-dependent regulation of population growth, and (3) recognition that more information was needed about the role of this plant's seed bank in maintaining population viability.

As reclassification and recovery criteria are met, the status of the species will be reviewed and the species will be considered for reclassification or removal from the Federal List of Endangered and Threatened Plants.

Authority: The authority for this action is section 4(f) of the Endangered Species Act, 16 U.S.C. 1533(f).

Dated: June 15, 2011.
Mark J. Musaus,
Acting Regional Director.

[FR Doc. 2011-20137 Filed 8-8-11; 8:45 am]

BILLING CODE 4310-55-P